DEPARTMENT OF TRANSPORTATION

Federal Aviation Administration

Notice of Airport Level Designation for Newark Liberty International Airport for the Summer 2008 Scheduling Season

AGENCY: Department of Transportation, Federal Aviation Administration (FAA).

ACTION: Notice of Schedule Coordination.

SUMMARY: Under this notice, the FAA announces that Newark Liberty International Airport (EWR) has been designated a Level 3 Coordinated Airport for the summer 2008 scheduling season under the International Air Transport Association (IATA) Worldwide Scheduling Guidelines. This notice supercedes the September 24, 2007, notice that designated EWR a Level 2 Schedules Facilitated Airport. 72 FR 54317. Based on a recently completed capacity analysis, a review of last summer's demand, the projections for summer 2008, discussions with carriers regarding future schedule plans, and the potential for increased operations at EWR due to operating limits at JFK, the FAA has determined that a Level 3 airport declaration is warranted.

The FAA's primary constraint is runway capacity, but the Port Authority of New York and New Jersey (Port Authority), the airport's operator, also will continue to review proposed schedules for gates, facility, customs, immigration, or similar groundside constraints. The FAA and the Port Authority recognize that separate coordination process for runway slots and gate terminal slots is a burden for carriers and, therefore, the process is under review in order to facilitate communication and reduce the administrative workload. IATA will be consulted regarding “best practices” in use at other coordinated airports.

EWR delays over the last several years have been among the highest in the system. Despite a relatively stable number of daily air traffic operations, the airport is experiencing increased congestion and delay partly as a result of certain peak hours when demand approaches or exceeds the airport's average arrival and departure runway throughput. Comparing the period of October 2006 through September 2007 to the same period in the previous year, the average daily operations at EWR decreased by about one-half percent; the average daily arrivals with delays greater than one hour increased 18 percent; and on-time gate arrivals within 15 minutes of scheduled time decreased from 63.52 percent to 61.72 percent. On-time departures within 15 minutes of scheduled time declined from 71.95 percent to 69.33 percent. The average taxi-out delay remained 28.6 minutes.

To determine the airport's throughput, the FAA engaged MITRE's Center for Advanced Aviation System Development (CAASD) to review two years' worth of operational data for weekdays from September 2006 through August 2007. The analysis included hourly arrival and departure counts and the hourly air traffic control (ATC) established rates for those same periods. These rates were combined to develop an “adjusted” capacity number to reflect the airport's operational capability. This method compensates for periods when demand during a particular hour was below the ATC acceptance rates and also accounts for actual operations above ATC rates. For the last twelve months of the study period, the average adjusted capacity was 83 operations per hour, down almost five percent from the earlier months analyzed. The FAA is continuing to review ways to improve the airport's capacity and has been engaged in numerous efforts to identify and implement changes that would improve the efficiency of the ATC system. For example, as part of the FAA's New York Aviation Rulemaking Committee (ARC), over 77 initiatives were identified for the New York City area. A number of these initiatives will benefit the EWR operations. A full copy of the ARC's report to the Secretary of Transpiration is available on the FAA's Web site at http://www.faa.gov.

The FAA's review of air carriers' schedule submissions for summer 2008 indicated new planned operations in peak hours as well as the retiming of operations from less congested to more congested periods. About 100 new peak-day flights were requested. Proposed schedules in the afternoon and evening period, which were historically high during summer 2007, are of the greatest concern. These proposed schedules, if implemented, would result in a significant increase of operations at EWR and would exceed the airport's optimal rate for multiple, consecutive hours. Delays would increase on an exponential basis and would likely reach levels that are considered unacceptable to passengers, airlines, and other customers.

Under the Level 2 designation, the FAA began discussing carriers' proposed summer 2008 schedules in November at the IATA scheduling Conference in Toronto, Canada. The FAA will grant historic status for foreign flag air carrier and domestic air carrier operations based on their summer 2007 flights if requested for summer 2008. For new requests, the agency identified certain periods that would be beyond the airport's historic throughput and scheduled levels and asked for schedule adjustments from certain carriers to retime operations to other periods of the day where capacity is available. In some cases, carriers responded by withdrawing their new requests for peak hour operations. The FAA is continuing its effort to retime proposed new operation out of peak hours because the agency cannot grant the requests without causing excessive congestion.

The FAA plans to finalize summer 2008 schedules with carriers within the next few weeks. Even if the FAA were to be fully successful in reaching agreement on schedule plans under Level 2 for summer 2008, the FAA now believes that an IATA Level 3 Coordinated Airport designation is warranted to ensure there is no exceedance of the level of operations the FAA will allow for summer 2008. The Level 3 status also will set carrier expectations for future coordination needs and for the need to schedule new operations during periods when the airport has the available capacity.

ADDRESSES: Any change to schedule information for summer 2008 may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: James W. Tegtmeier, Associate Chief Counsel for the Air Traffic Organization, Federal Aviation Administration, 800 Independence Avenue, SW., Washington, DC 20591; telephone number: 202-267-3073.

Issued in Washington, DC, on December 19, 2007.
James W. Whitlow,
Deputy Chief Counsel.

[FR Doc. 07-6179 Filed 12-19-07; 1:36 pm]

BILLING CODE 4910-13-M